ENVIRONMENTAL PROTECTION AGENCY

[FRL-7506-6]

Notice of Proposed Prospective Purchaser Agreement Pursuant to CERCLA and RCRA, BKK Landfill Site, West Covina, CA

AGENCY: Environmental Protection Agency (EPA).

ACTION: Notice; request for public comment.

SUMMARY: Notice is hereby given that a proposed prospective purchaser agreement associated with the BKK Landfill site, located in West Covina, Los Angeles County, California was executed by the Agency on May 22, 2003, and concurred upon by the United States Department of Justice on May 13, 2003. The site is an interim status hazardous waste facility. The agreement, between the City of West Covina, California (the “City”), and the United States, is subject to final approval after the comment period. The Prospective Purchaser Agreement would resolve certain potential EPA claims under the Comprehensive Environmental Response, Compensation, and Liability Act of 1980, as amended by the Superfund Amendments and Reauthorization Act of 1986 (“CERCLA”), and potential claims under section 3008(h) of the Resource Conservation and Recovery Act (“RCRA”).

The City plans to purchase approximately 158 acres of the 583-acre BKK hazardous waste facility for redevelopment into sports, recreation and commercial uses. Under this proposed prospective purchaser agreement, the City would be required to implement a workplan for monitoring soil, soil-gas and indoor air at any development involving a park or playground that the City approves on certain specified portions of the property it plans to purchase if the facility owner/operator, the BKK Corporation (“BKK”), fails to do so and if funds are available to the City to implement that workplan. Under a separate agreement being entered into between the City, BKK and Wells Fargo Bank, the City also has certain obligations to oversee BKK's use of the funds obtained from the purchase of the property for compliance with local, State and federal requirements at the BKK Landfill site.

The City is required to grant access to the property to EPA, its authorized officers, employees, representatives, and all other persons performing response actions under EPA oversight.

For thirty (30) days following the date of publication of this notice, the Agency will receive written comments relating to the proposed settlement. The Agency's response to any comments received will be available for public inspection at the U.S. Environmental Protection Agency, Region IX, 75 Hawthorne Street, San Francisco, California 94105 and the information repository for the BKK Landfill site located at the West Covina Public Library, 1601 West Covina Parkway, West Covina, CA 91790.

DATES: Comments must be submitted on or before July 2, 2003.

ADDRESSES: Comments may be submitted to Mimi Newton, Assistant Regional Counsel (ORC-3), U.S. Environmental Protection Agency, Region IX, 75 Hawthorne Street, San Francisco, California 94105 (e-mail: newton.mimi@epa.gov). Comments should reference “The BKK Landfill Site Prospective Purchaser Agreement.”

Availability: The proposed settlement is available for public inspection at the U.S. Environmental Protection Agency, Region IX, 75 Hawthorne Street, San Francisco, California 94105, and the information repository for the BKK Landfill site located at the West Covina Public Library, 1601 West Covina Parkway, West Covina, CA 91790. A copy of the proposed agreement may be obtained from Mimi Newton, Assistant Regional Counsel (ORC-3), U.S. Environmental Protection Agency, Region IX, 75 Hawthorne Street, San Francisco, California 94105 (e-mail: newton.mimi@epa.gov).

FOR FURTHER INFORMATION CONTACT: Mimi Newton, Assistant Regional Counsel (ORC-3), U.S. Environmental Protection Agency, Region IX, 75 Hawthorne Street, San Francisco, California 94105, (415) 972-3941; e-mail: newton.mimi@epa.gov.

Dated: May 21, 2003.
Jeff Scott,
Director, Waste Management Division, Region IX.
Dated: May 16, 2003.
Keith Takata,
Director, Superfund Division, Region IX.

[FR Doc. 03-13699 Filed 5-30-03; 8:45 am]

BILLING CODE 6560-50-P